DEPARTMENT OF THE TREASURY

United States Mint

Pricing for the 2016 Mark Twain Commemorative Coin Program

AGENCY: United States Mint, Department of the Treasury.

ACTION: Notice.

SUMMARY: The United States Mint is announcing pricing for the 2016 Mark Twain Commemorative Coin Program as follows:

Coin | Introductory price | Regular price
Silver Proof | $45.95 | $50.95
Silver Uncirculated | 44.95 | 49.95

Products containing gold coins will be priced according to the Pricing of Numismatic and Commemorative Gold and Platinum Products Grid posted at www.usmint.gov.

FOR FURTHER INFORMATION CONTACT: Ann Bailey, Products Manager for Numismatic and Bullion; United States Mint; 801 9th Street NW., Washington, DC 20220; or call 202-354-7500.

Authority: 31 U.S.C. 5111, 5112 & 9701

Dated: December 15, 2015.
Richard A. Peterson,
Deputy Director for Manufacturing and Quality, United States Mint.

[FR Doc. 2015-32031 Filed 12-21-15; 8:45 am]

BILLING CODE P